DEPARTMENT OF COMMERCE

International Trade Administration

U.S. Healthcare Education Mission to New Delhi, Hyderabad, and Ahmedabad, India, January 27-February 1, 2014

AGENCY: International Trade Administration, Department of Commerce.

ACTION: Notice.

SUMMARY: The United States Department of Commerce, International Trade Administration is amending the Notice published at 78 FR 42505, July 16, 2013, regarding the U.S. Healthcare Education Mission to New Delhi, Hyderabad, and Ahmedabad, India to revise the date of the application deadline from November 1, 2013 to the new deadline of November 22, 2013.

SUPPLEMENTARY INFORMATION: Amendments to Revise the Application Deadline Date Recruitment for this Mission began in July 2013. Due to the government shutdown, it has been determined that additional time is needed to allow for additional recruitment and marketing in support of the mission. Applications will now be accepted through November 22, 2013 (and after that date if space remains and scheduling constraints permit). Interested institutions regionally accredited U.S. Universities/colleges offering graduate programs and 4-year undergraduate programs” that have not already submitted an application are encouraged to do so.

Amendments

For the reasons stated above, the last three lines of the Timeframe for Recruitment and Applications section of the Notice of the U.S. Healthcare Education Mission to New Delhi, Hyderabad, and Ahmedabad, India, January 27-February 1, 2014 is amended as follows: “Recruitment for the mission will begin immediately and conclude no later than November 22, 2013. The mission will be open on a first-come, first-served basis. Applications received after November 22, 2013 will be considered only if space and scheduling constraints permit.”

Contact Information

U.S. Commercial Service in India: Sathya Prabha, Commercial Assistant, Hyderabad, Tel: (91-40) 2330 4025, Email: Sathya.Prabha@trade.gov.

U.S. Export Assistance Center: Patrick Kenny, International Trade Specialist, Central-Southern NJ, Tel: 1 609 896 2731, Email: Patrick.Kenny@trade.gov.

Elnora Moye,
Trade Program Assistant.

[FR Doc. 2013-26399 Filed 11-4-13; 8:45 am]

BILLING CODE 3510-DR-P